DEPARTMENT OF ENERGY

Federal Energy Regulatory Commission

[Docket No. RP03-446-001]

Portland Natural Gas Transmission System; Notice of Proposed Change in FERC Gas Tariff

July 10, 2003.

Take notice that on July 7, 2003, Portland Natural Gas Transmission System (PNGTS) tendered for filing the following revised tariff sheet to its FERC Gas Tariff, Original Volume No. 1, to become effective on July 1, 2003:

Substitute Fourth Revised Sheet No. 380

PNGTS states that its filing is submitted in compliance with the Commission's June 27, 2003 order in this proceeding, which accepted, subject to minor revisions, tariff sheets filed by PNGTS on May 1, 2003 in accordance with the Commission's Order No. 587-R. Order No. 587-R required pipelines to revise their tariffs to incorporate by reference Version 1.6 of the consensus standards promulgated by the North American Standards Board Wholesale Gas Quadrant (“WGQ”) and the WGQ standards for partial day recalls of capacity release transactions. PNGTS states that in accordance with the June 27, 2003 Order, PNGTS is correcting certain designations of the WGQ standards and recommendations that are being incorporated into the tariff and changing “GISB” references to “WGQ Standards.”

PNGTS states that copies of this filing are being served on all jurisdictional customers and interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Intervention Date: July 21, 2003.

Magalie R. Salas,
Secretary.

[FR Doc. 03-18034 Filed 7-16-03; 8:45 am]

BILLING CODE 6717-01-P